DEPARTMENT OF HEALTH AND HUMAN SERVICES

Food and Drug Administration

A Conversation About Cancer Drug Development With Cancer Patient Advocates

AGENCY: Food and Drug Administration, HHS.

ACTION: Notice of meeting.

The Food and Drug Administration (FDA) is announcing the following meeting: A Conversation About Cancer Drug Development With Cancer Patient Advocates. The topics to be discussed are: Fast track, compassionate use, quality of life, the Patient Consultant Program, and other issues as they arise.

Date and Time: The meeting will be held on June 29, 2001, 2 p.m. to 4 p.m.

Location: The meeting will be held at the Westin Fairfax Hotel, Whitehall Room, 2100 Massachusetts Ave. NW., Washington, DC 20008, 202-293-2100.

Contacts: Patricia C. Delaney and JoAnn M. Minor, Office of Special Health Issues, Cancer Liaison Program, Office of International and Constituent Relations, Office of the Commissioner, Food and Drug Administration, 5600 Fishers Lane, Rockville, MD 20857, 301-827-4460, FAX: 301-443-4555, or e-mail: pdelaney@oc.fda.gov and jminor@oc.fda.gov.

Registration: Send registration information (including name, title, firm name, address, telephone, fax number and/or e-mail address) to either contact person by June 22, 2001.

If you need special accommodations due to a disability, please contact Patricia C. Delaney or JoAnn M. Minor at least 7 days in advance.

Dated: June 8, 2001.
Margaret M. Dotzel,
Associate Commissioner for Policy.

[FR Doc. 01-14930 Filed 6-13-01; 8:45 am]

BILLING CODE 4160-01-S